DEPARTMENT OF HEALTH AND HUMAN SERVICES

National Institutes of Health

Notice To Announce the National Institute of Mental Health (NIMH) Draft Strategic Plan for Research; Request for Comments

AGENCY: National Institutes of Health (NIH), HHS.

ACTION: Notice.

SUMMARY: The National Institute of Mental Health (NIMH) is updating its Strategic Plan for Research to guide the Institute's research efforts and priorities over the next five years. The purpose of this Notice is to seek comments from the public about the draft 2020 NIMH Strategic Plan for Research. The draft Strategic Plan will be publicly available via https://www.nimh.nih.gov/about/strategic-planning-reports/2020-draft-strategic-plan.pdf for a 30-day period beginning on the publication of this Notice. The public is invited to provide comments.

DATES: To ensure consideration, your responses must be received within a 30-day period that begins on the publication date of this Notice.

ADDRESSES: Responses to this Notice should be submitted electronically via http://grants.nih.gov/grants/rfi/rfi.cfm?ID=92. Alternatively, written responses can be submitted by mail to the Office of Science Policy, Planning, and Communications (OSPPC), 6001 Executive Boulevard, MSC 9663, Bethesda, MD 20892-9663.

FOR FURTHER INFORMATION CONTACT: Rachel B. Scheinert, Ph.D., Science Policy and Evaluation Branch, Office of Science Policy, Planning, and Communications, National Institute of Mental Health, National Institutes of Health, 6001 Executive Blvd., Room 6202, NSC, Bethesda, MD 20892-9667, 301-451-0292;, Telephone: 1-866-615-6464 (toll-free), 1-301-443-8431 (TTY), 1-866-415-8051 (TTY toll-free), Fax: 1-301-443-4279, Email: NIMHStratPlan@mail.nih.gov.

SUPPLEMENTARY INFORMATION:

Background

The National Institute of Mental Health (NIMH) is the lead federal agency for research on mental illnesses. The mission of the NIMH is to transform the understanding and treatment of mental illnesses through basic and clinical research, paving the way for prevention, recovery, and cure. To fulfill its mission, the NIMH supports and conducts research on mental illnesses and the underlying basic science of brain and behavior; supports the training of scientists to carry out basic and clinical mental health research; and, communicates with scientists, patients, providers, and the general public about the science of mental illnesses.

Every five years, NIMH publishes a Strategic Plan for Research to accelerate progress in basic, translational, and clinical science. The need to update the plan became clear with the increasing number of remarkable scientific advancements, the changing landscapes of mental health care over the past few years, and the pace of discovery and change in the mental health space.

With the goals of helping individuals living with mental illnesses and promoting both prevention and cure, NIMH has updated its high-level Goals as follows:

1. Define the Brain Mechanisms Underlying Complex Behaviors

2. Examine Mental Illness Trajectories Across the Lifespan

3. Strive for Prevention and Cures

4. Strengthen the Public Health Impact of NIMH-Supported Research

These four Goals form a broad roadmap for the Institute's priorities over the next five years, which begins with the fundamental science of the brain and behavior and continues through to the public health impact. Full implementation of these Goals will, we hope, transform the diagnosis, treatment, and prevention of mental illnesses.

Information Requested/Request for Comments

This Notice invites public comment on the draft 2020 NIMH Strategic Plan for Research. When developing your comments, we encourage you to read the draft Strategic Plan for Research (linked here) and provide any comments you may have via http://grants.nih.gov/grants/rfi/rfi.cfm?ID=92. Alternatively, written responses can be submitted by mail to the Office of Science Policy, Planning, and Communications (OSPPC), 6001 Executive Boulevard, MSC 9663, Bethesda, MD 20892-9663.

General Information

Submitted information will not be considered confidential. Responses are welcome from associations and professional organizations as well as individual stakeholders. This request is for information and planning purposes and should not be construed as a solicitation or as an obligation of the Federal Government or NIMH. No awards will be made based on responses to this RFI. The information submitted will be analyzed and may be used for planning purposes. No proprietary, classified, confidential and/or sensitive information should be included in your response. The NIH and the government reserve the right to use any non-proprietary technical information in any future solicitation(s).

Joshua A. Gordon,
Director, National Institute of Mental Health, National Institutes of Health.

[FR Doc. 2019-26108 Filed 12-2-19; 8:45 am]

BILLING CODE 4140-01-P